DEPARTMENT OF THE INTERIOR

Bureau of Land Management

[F-14920-A; F-14920-A2; LLAK965000-L14100000-KC0000-P]

Alaska Native Claims Selection

AGENCY: Bureau of Land Management, Interior.

ACTION: Notice of Decision Approving Lands for Conveyance.

SUMMARY: As required by 43 CFR 2650.7(d), notice is hereby given that the Bureau of Land Management (BLM) will issue an appealable decision approving the surface and subsurface estates in certain lands for conveyance pursuant to the Alaska Native Claims Settlement Act to Arviq Incorporated. The subsurface estate in a portion of these lands will be conveyed to Calista Corporation when the surface estate is conveyed to Arviq Incorporated. The remaining lands lie within Togiak National Wildlife Refuge, established on January 23, 1969. The subsurface estate in the refuge lands will be reserved to the United States at the time of conveyance. The lands are in the vicinity of Platinum, Alaska, and are located in:

Lands Within The Cape Newenham National Wildlife Refuge (Public Land Order 4583), Now Known as the Togiak National Wildlife Refuge

Seward Meridian, Alaska

T. 14 S., R. 74 W.,

Sec. 15.

Containing 640 acres.

T. 14 S., R. 74 W.,

Sec. 22.

Containing 640 acres.

T. 15 S., R. 74 W.,

Sec. 5.

Containing 640 acres.

Aggregating 1,920 acres.

Lands Outside The Cape Newenham National Wildlife Refuge (Public Land Order 4583), Now Known as the Togiak National Wildlife Refuge

Lots 7a and 7b, U.S. Survey No. 9548, Alaska.

Containing 26.04 acres.

Seward Meridian, Alaska

T. 14 S., R. 74 W.,

Secs. 16, 21, and 29.

Containing 1,919.86 acres.

T. 13 S., R. 76 W.,

Sec. 2.

Containing 10.92 acres.

T. 14 S., R. 74 W.,

Sec. 32.

Containing 640 acres.

Aggregating 2,596.82 acres.

Total Aggregating 4,516.82 acres.

Notice of the decision will also be published four times in the Tundra Drums.

DATES: Any party claiming a property interest in the lands affected by the decision may appeal the decision within the following time limits:

1. Unknown parties, parties unable to be located after reasonable efforts have been expended to locate, parties who fail or refuse to sign their return receipt, and parties who receive a copy of the decision by regular mail which is not certified, return receipt requested, shall have until August 19, 2011 to file an appeal.

2. Parties receiving service of the decision by certified mail shall have 30 days from the date of receipt to file an appeal.

3. Notices of appeal transmitted by electronic means, such as facsimile or e-mail, will not be accepted as timely filed.

Parties who do not file an appeal in accordance with the requirements of 43 CFR Part 4, subpart E, shall be deemed to have waived their rights.

ADDRESSES: A copy of the decision may be obtained from: Bureau of Land Management, Alaska State Office, 222 West Seventh Avenue, #13, Anchorage, Alaska 99513-7504.

FOR FURTHER INFORMATION CONTACT: The BLM by phone at 907-271-5960 or by e-mail at ak.blm.conveyance@blm.gov. Persons who use a Telecommunications Device for the Deaf (TDD) may call the Federal Information Relay Service (FIRS) at 1-800-877-8339 to contact the BLM during normal business hours. In addition, the FIRS is available 24 hours a day, 7 days a week, to leave a message or question with the BLM. The BLM will reply during normal business hours.

Charmain McMillan,
Land Law Examiner, Land Transfer Adjudication II Branch.

[FR Doc. 2011-18164 Filed 7-19-11; 8:45 am]

BILLING CODE 4310-JA-P